FEDERAL COMMUNICATIONS COMMISSION

[OMB 3060-0292, OMB 3060-0743, 3060-1151; FR ID 59383]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before January 25, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-0292.

Title: Part 69—Access Charges (Section 69.605, Reporting and Distribution of Pool Access Revenues).

Form Number: N/A.

Type of Review: Extension of a currently approved collection.

Respondents: Business or other for-profit.

Number of Respondents and Responses: 732 respondents; 8,773 responses.

Estimated Time per Response: 0.75 hours-1 hour.

Obligation to Respond: Required to obtain or retain benefits. Statutory authority for this information collection is contained 47 U.S.C. 154, 201, 202, 203, 205, 218 and 403 of the Communications Act of 1934, as amended.

Frequency of Response: Annual and monthly reporting requirements and third party disclosure requirement.

Total Annual Burden: 6,580 hours.

Total Annual Cost: No cost.

Privacy Act Impact Assessment: No impact(s).

Nature of Extent of Confidentiality: The Commission is not requesting that the respondents submit confidential information to the FCC. Respondents may, however, request confidential treatment for information they believe to be confidential under 47 CFR 0.459 of the Commission's rules.

Needs and Uses: Section 69.605 requires that access revenues and cost data shall be reported by participants in association tariffs to the association for computation of monthly pool revenues distributions. The association shall submit a report on or before February 1 of each calendar year describing the association's cost study review process for the preceding calendar year as well as the results of that process. For any revisions to the cost study results made or recommended by the association that would change the respective carrier's calculated annual common line or traffic sensitive revenue requirement by ten percent or more, the report shall include the following information:

(1) Name of the carrier;

(2) A detailed description of the revisions;

(3) The amount of the revisions;

(4) The impact of the revisions on the carrier's calculated common line and traffic sensitive revenue requirements; and

(5) The carrier's total annual common line and traffic sensitive revenue requirement.

The information is used by the Commission to compute charges in tariffs for access service (or origination and termination) and to compute revenue pool distributions. Neither process could be implemented without this information.

OMB Control Number: 3060-0743.

Title: Implementation of the Pay Telephone Reclassification and Compensation Provisions of the Telecommunications Act of 1996, CC Docket No. 96-128.

Form Number: N/A.

Type of Review: Extension of a currently approved collection.

Respondents: Business or other for-profit.

Number of Respondents and Responses: 4,471 respondents; 10,071 responses.

Estimated Time per Response: 0.50-100 hours.

Obligation to Respond: Required to obtain or retain benefits. Statutory authority is contained in 47 U.S.C. 276 of the Telecommunications Act of 1996, as amended.

Frequency of Response: On occasion, quarterly and monthly reporting requirements, recordkeeping requirement and third-party disclosure requirement.

Total Annual Burden: 118,137 hours.

Total Annual Cost: No cost.

Privacy Act Impact Assessment: No impact(s).

Nature of Extent of Confidentiality: The Commission is not requesting that the respondents submit confidential information to the FCC. Respondents may, however, request confidential treatment for information they believe to be confidential under 47 CFR 0.459 of the Commission's rules.

Needs and Uses: This collection will be submitted as an extension of a currently approved collection to the Office of Management and Budget (OMB) in order to obtain the full three-year clearance. The Commission promulgated rules and reporting requirements implementing section 276 of the Telecommunications Act of 1996. Among other things, the rules: (1) Establish fair compensation for every completed intrastate and interstate payphone calls; (2) discontinue intrastate and interstate access charge payphone service elements and payments, and intrastate and interstate payphone subsidies from basic exchange services; and (3) adopt guidelines for use by the states in establishing public interest payphones to be located where there would otherwise not be a payphone. The information collected is provided to third parties and to ensure that interexchange carriers, payphone service providers (“PSP”) LECs, and the states comply with their obligations under the 1996 Act.

OMB Control Number: 3060-1151.

Title: Sections 1.1411, 1.1412, and 1.1415 Pole Attachment Access Requirements.

Form Number: N/A.

Type of Review: Revision of a currently approved collection.

Respondents: Business or other for-profit.

Number of Respondents and Responses: 1,313 respondents; 163,866 responses.

Estimated Time per Response: 0.50-6 hours.

Frequency of Response: On-occasion reporting requirement, recordkeeping requirement, and third-party disclosure requirement.

Obligation to Respond: Mandatory. Statutory authority for this information collection is contained in 47 U.S.C. 224.

Total Annual Burden: 112,534 hours.

Total Annual Cost: $6,750,000.

Privacy Act Impact Assessment: No impact(s).

Nature and Extent of Confidentiality: No questions of a confidential nature are asked.

Needs and Uses: The Commission is requesting the Office of Management and Budget (OMB) approval for this revised information collection. In Accelerating Wireline Broadband Deployment by Removing Barriers to Infrastructure Investment, WC Docket No. 17-84, WT Docket No. 17-70, Third Report and Order and Declaratory Ruling, FCC 18-111 (2018) (Order), the Commission adopted rules that implement the pole attachment requirements in section 224 of the Communications Act of 1934, as amended. The Order substantially revised 47 CFR 1.1411 and 1.1412. It also added new 47 CFR 1.1415.

Section 1.1411. In the Order, the Commission adopted a one-touch, make-ready (OTMR) process for when a telecommunications carrier or cable television system (new attacher) elects to do the work itself to prepare a utility pole for a simple wireline attachment in the communications space. As part of the OTMR process, the new attacher typically first conducts a survey of the affected poles, giving the utility and existing attachers a chance to be present for the survey. New attachers must elect the OTMR process in their pole attachment application and must demonstrate to the utility that the planned work qualifies for OTMR. The utility then must determine whether the pole attachment application is complete and whether the work qualifies for OTMR, and then must either grant or deny pole access and explain its decision in writing. The utility also can object to the new attacher's determination that the work qualifies for OTMR, and that objection is final and determinative so long as it is specific and in writing, includes all relevant evidence and information supporting its decision, made in good faith, and explains how such evidence and information relates to a determination that the make-ready is not simple. If the new attacher's OTMR application is approved, then it can proceed with OTMR work by giving advance notice to the utility and existing attachers and allowing them an opportunity to be present when OTMR work is being done. New attachers must provide immediate notice to affected utilities and existing attachers if outages or equipment damage is caused by their OTMR work. Finally, new attachers must provide notice to affected utilities and existing attachers after OTMR work is completed, allowing them to inspect the work and request remediation, if necessary. The Commission also adopted changes to its existing pole attachment timeline, which still will be used for complex work, work above the communications space on a utility pole, and in situations where new attachers do not want to elect OTMR. The Commission largely kept the existing pole attachment timeline intact, except for the following changes: (1) Revising the definition of a complete pole attachment application and establishing a timeline for a utility's determination whether an application is complete; (2) requiring utilities to provide at least three business days' advance notice of any surveys to attachers; (3) establishing a 30-day deadline for completion of all make-ready work in the communications space; (4) eliminating the 15-day utility make-ready period for communications space attachments; (5) streamlining the utility's notice requirements; (6) enhancing the new attacher's self-help remedy by making the remedy available for surveys and make-ready work for all attachments anywhere on the pole in the event that the utility or the existing attachers fail to meet the required deadlines; (7) providing notice requirements when new attachers elect self-help, such notices to be given when new attachers perform self-help surveys and make-ready work, when outages or equipment damage results from self-help work, and upon completion of self-help work to allow for inspection; (8) allowing utilities to meet the survey requirement by electing to use surveys previously prepared on the affected poles by new attachers; and (9) requiring utilities to provide detailed make-ready cost estimates and final invoices on a pole-by-pole basis if requested by new attachers. Both utilities and existing attachers can deviate from the existing pole attachment make-ready timeline for reasons of safety or service interruption by giving written notice to the affected parties that includes a detailed explanation of the need for the deviation and a new completion date. The deviation shall be for a period no longer than necessary to complete make-ready on the affected poles, and the deviating party shall resume make-ready without discrimination when it returns to routine operations.

Section 1.1412. The Commission required utilities to make available, and keep up-to-date, a reasonably sufficient list of contractors that they authorize to perform surveys and make-ready work that are complex or involve self-help work above the communications space of a utility pole. Attachers can request to add to the list any contractor that meets certain minimum qualifications, subject to the utility's ability to reasonably object. For simple work, a utility may, but is not required, to keep an up-to-date, reasonably sufficient list of contractors that they authorize to perform surveys and simple make-ready work. For any utility-supplied contractor list, the utility must ensure that the contractors meet certain minimum requirements. Attachers can request to add to the list any contractor that meets the minimum qualifications, subject to the utility's ability to reasonably object. If the utility does not provide a list of approved contractors for surveys or simple make-ready, or no utility-approved contractor is available within a reasonable time period, then the new attacher may choose its own qualified contractor that meets the minimum requirements, subject to notice and the utility's ability to disqualify the chosen contractor for reasonable safety or reliability concerns.

Section 1.1415. The Commission codified its policy that utilities may not require an attacher to obtain prior approval for overlashing on an attacher's existing wires or for third-party overlashing of an existing attachment when such overlashing is conducted with the permission of the existing attacher. In addition, the Commission adopted a rule that allows utilities to establish reasonable advance notice requirements for overlashing (up to 15 days' advance notice). If a utility requires advance notice for overlashing, then the utility must provide existing attachers with advance written notice of the notice requirement or include the notice requirement in the attachment agreement with the existing attacher. If, after receiving advance notice, the utility determines that an overlash would create a capacity, safety, reliability, or engineering issue, then it must provide specific documentation of the issue to the party seeking to overlash within the 15-day advance notice period, and the party seeking to overlash must address any identified issues before continuing with the overlash either by modifying its proposal or by explaining why, in the party's view, a modification is unnecessary. An overlashing party must notify the affected utility within 15 days of completion of the overlash and provide the affected utility at least 90 days to inspect the overlash. If damage or code violations are discovered by the utility during the inspection, then it must notify the overlashing party, provide adequate documentation of the problem, and elect to either fix the problem itself at the overlashing party's expense or require remediation by the overlashing party.

Federal Communications Commission.
Marlene Dortch,
Secretary, Office of the Secretary.

[FR Doc. 2021-25820 Filed 11-24-21; 8:45 am]

BILLING CODE 6712-01-P